DEPARTMENT OF DEFENSE

Department of the Army

[Docket ID: USA-2010-0014]

Privacy Act of 1974; System of Records

AGENCY: Department of the Army, DoD.

ACTION: Notice to alter a system of records.

SUMMARY: The Department of the Army proposes to alter a system of records notices in its existing inventory of record systems subject to the Privacy Act of 1974, (5 U.S.C. 552a), as amended.

DATES: This proposed action will be effective without further notice on July 28, 2010 unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones at (703) 428-6185.

SUPPLEMENTARY INFORMATION: Department of the Army notices for systems of records subject to the Privacy Act of 1974 (5 U.S.C. 552a), as amended, have been published in the Federal Register and are available from the Department of the Army, Privacy Office, U.S. Army Records Management and Declassification Agency, 7701 Telegraph Road, Casey Building, Suite 144, Alexandria, VA 22325-3905.

The proposed system report, as required by 5 U.S.C. 552a(r) of the Privacy Act of 1974, as amended, was submitted on June 14, 2010, to the House Committee on Government Reform, the Senate Committee on Homeland Security and Governmental Affairs, and the Office of Management and Budget (OMB) pursuant to paragraph 4c of Appendix I to OMB Circular No. A-130, “Federal Agency Responsibilities for Maintaining Records About Individuals,” February 20, 1996; 61 FR 6427.

Dated: June 23, 2010.
Mitchell S. Bryman,
Alternate OSD Federal Register Liaison Officer, Department of Defense.

A0190-47 DAMO

SYSTEM NAME:

Correctional Reporting System (CRS) (August 23, 1999; 64 FR 45957).

* * * * *

CHANGES:

SYSTEM ID:

Delete entry and replace with “A0190-47 DAPM-ACC”.

SYSTEM NAME:

Delete entry and replace with “Army Corrections and Review Board Records.”

SYSTEM LOCATION:

Delete entry and replace with “Office of the Provost Marshal General, 2800 Army Pentagon, Washington, DC 20310-2800; Army Corrections Command, 200 Stovall St, Alexandria, VA 22332-6100; Army Corrections System Facilities, Navy and Marine Corps Brigs; and Army Clemency and Parole Board Office, 1901 South Bell Street, Arlington, VA 22202-4508.”

CATEGORIES OF INDIVIDUALS COVERED BY THE SYSTEM:

Delete entry and replace with “Any military member confined at a DoD correctional facility as a result of, or pending trial by courts-martial under Army responsibility, and those under community supervision once released from DoD correctional facility. All Department of Defense civilian employees, military members and contractors who have been granted user accounts on the system in order to conduct official business.”

CATEGORIES OF RECORDS IN THE SYSTEM:

Delete entry and replace with “Full name, Social Security Number (SSN), present address; documents related to the administration of individual military prisoners; courts-martial orders, dates of confinement, release/confinement orders, register number, medical examiner's reports, requests and receipts for health and comfort supplies, reports and recommendations relating to disciplinary actions, clothing and equipment issue records; forms authorizing correspondence by prisoner, mail records; personal history records; individual prisoner utilization records; requests for interview; fingerprint cards, military police reports; prisoner identification records; parolee/mandatory supervised release agreements; inspections; documents regarding custodianship of personal funds and property of prisoners; former commanding officer's report; parents' report; spouse's report; classification recommendations; request to transfer prisoner; social history; clemency and parole actions; psychologist's report; psychiatric and sociologic reports; certificate of parole; certificate of release from parole; assignment progress reports; and similar relevant documents.”

AUTHORITY FOR MAINTENANCE OF THE SYSTEM:

Delete and replace with “10 U.S.C. 3013, Secretary of the Army; 10 U.S.C. 951, Military Claims; DoD Directive 1030.1, Victim and Witness Assistance; DoD Instruction 1030.2, Victim and Witness Assistance Procedures; DoD Instruction 1325.7, Administration of Military Correctional Facilities and Clemency and Parole Authority; Army Regulation 190-130, Army Clemency and parole board, Army Regulation 190-47, The Army Corrections System; and E.O. 9397 (SSN), as amended.”

PURPOSE(S):

Delete entry and replace with “Automated records provide pertinent information required for proper clemency and parole decisions that the Army Clemency and Parole Board makes for the Secretary of the Army.”

* * * * *

SYSTEM MANAGER(S) AND ADDRESS:

Delete entry and replace with “Office of the Provost Marshal General, 2800 Army Pentagon, Washington, DC 20310-2800; Army Corrections Command, 200 Stovall St, Alexandria, VA 22332-6100.”

NOTIFICATION PROCEDURE:

Delete entry and replace with “Individuals seeking to determine whether information about themselves is contained in this system should address written inquiries to the commander of the correctional facility where confined.

For verification purposes, individual should provide their full name, Social Security Number (SSN), dates of confinement, any details, which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

RECORD ACCESS PROCEDURES:

Delete entry and replace with “Individuals seeking access to information about themselves contained in this system should address written inquiries to the commander of the correctional facility.

For verification purposes, individual should provide their full name, Social Security Number (SSN), dates of confinement, any details, which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)’.”

* * * * *

A0190-47 DAPM-ACC

SYSTEM NAME:

Army Corrections and Review Board Records.

SYSTEM LOCATION:

Office of the Provost Marshal General, 2800 Army Pentagon, Washington, DC 20310-2800; Army Corrections Command, 200 Stovall St., Alexandria, VA 22332-6100; Army Corrections System Facilities, Navy and Marine Corps Brigs; and Army Clemency and Parole Board Office, 1901 South Bell Street, Arlington, VA 22202-4508.

CATEGORIES OF INDIVIDUALS COVERED BY THE SYSTEM:

Any military member confined at a DoD Correctional facility as a result of, or pending trial by courts-martial under Army responsibility, and those under community supervision once released from DoD correctional facility. All Department of Defense civilian employees, military members and contractors who have been granted user accounts on the system in order to conduct official business.

CATEGORIES OF RECORDS IN THE SYSTEM:

Full name, Social Security Number (SSN), present address; documents related to the administration of individual military prisoners; courts-martial orders, dates of confinement, release/confinement orders, register number, medical examiner's reports, requests and receipts for health and comfort supplies, reports and recommendations relating to disciplinary actions, clothing and equipment issue records; forms authorizing correspondence by prisoner, mail records; personal history records; individual prisoner utilization records; requests for interview; fingerprint cards, military police reports; prisoner identification records; parolee/mandatory supervised release agreements; inspections; documents regarding custodianship of personal funds and property of prisoners; former commanding officer's report; parents' report; spouse's report; classification recommendations; request to transfer prisoner; social history; clemency and parole actions; psychologist's report; psychiatric and sociologic reports; certificate of parole; certificate of release from parole; assignment progress reports; and similar relevant documents.

AUTHORITY FOR MAINTENANCE OF THE SYSTEM:

10 U.S.C. 3013, Secretary of the Army; 10 U.S.C. 951, Military Claims; DoD Directive 1030.1, Victim and Witness Assistance; DoD Instruction 1030.2, Victim and Witness Assistance Procedures; DoD Instruction 1325.7, Administration of Military correctional Facilities and Clemency and Parole Authority; Army Regulation 190-130, Army Clemency and parole board, Army Regulation 190-47, The Army Corrections System; and E.O. 9397 (SSN), as amended.

PURPOSE(S):

Automated records provide pertinent information required for proper clemency and parole decisions that the Army Clemency and Parole Board makes for the Secretary of the Army.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

To Federal, State and local confinement/correctional agencies for use in the administration of correctional programs including custody classification, employment, training and educational assignments, treatment programs, clemency, restoration to duty or parole actions, verification of offender's criminal records, employment records, and social histories.

To state and local authorities for purposes of providing (1) notification that individuals, who have been convicted of a specified sex offense or an offense against a victim who is a minor, will be residing in the state upon release from military confinement, (2) information about the individual for inclusion in a State operated sex offender registry and (3) DNA, or deoxyribonucleic acid policy on collecting samples from military prisoners.

To the Bureau of Prisons for purpose of providing notification that the military transferee has been convicted of a sexually violent offense or an offense against a victim who is a minor.

To victims and witnesses of a crime(s) for the purpose of notifying them of date of parole or clemency hearing and other release related activities.

The DoD `Blanket Routine Uses' set forth at the beginning of the Army's compilation of systems of records notices also apply to this system.

POLICIES AND PRACTICES FOR STORING, RETRIEVING, ACCESSING, RETAINING, AND DISPOSING OF RECORDS IN THE SYSTEM:

STORAGE:

Paper records in file folders and electronic storage media.

RETRIEVABILITY:

By prisoner's surname and/or Social Security Number (SSN) and/or register number.

SAFEGUARDS:

All records are maintained in areas accessible only to designated personnel having official need therefore. Automated data base and output are managed through comprehensive procedures and policies prescribed in system functional users manuals. Regional Data Centers are contractor-operated. Contractor personnel are security screened; employees receive a security briefing and participate in an on-going security education program under the Regional Data Security Officer. Regional Data Centers are connected through a communications network to 44 distributed data processing centers at Army installations. Data are available only to installation personnel responsible for system operation and maintenance. Terminals not in data processing centers are under the supervision of a terminal area security officer at each remote location protecting them from unauthorized use. Access to information is controlled further by a system of assigned passwords for authorized users of terminals.

RETENTION AND DISPOSAL:

Individual correctional treatment records for prisoners in the U.S. Army Corrections System Facilities are retained for 2 years following expiration of sentence/completion of parole/maximum release date, following which they are retired to the National Personnel Records Center for 25 years before destruction by shredding.

Note: Transfer of a prisoner from one facility to another is not construed as release from confinement. When a prisoner is transferred to another facility, his/her file is transferred with him/her.

Information on tape/disc is erased after 3 years.

Army Clemency Board case files are returned on completion of Board action, as appropriate, where they are retained for 2 years following expiration of sentence/completion of parole/maximum release date, following which they are retired to the National Personnel Records Center and maintained for 25 years before being destroyed by shredding.

SYSTEM MANAGER(S) AND ADDRESS:

Office of the Provost Marshal General, 2800 Army Pentagon, Washington, DC 20310-2800; Army Corrections Command, 200 Stovall St, Alexandria, VA 22332-6100.

NOTIFICATION PROCEDURE:

Individuals seeking to determine whether information about themselves is contained in this system should address written inquiries to the commander of the correctional facility where confined.

For verification purposes, individual should provide their full name, Social Security Number (SSN), dates of confinement, any details, which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

RECORD ACCESS PROCEDURES:

Individuals seeking access to information about themselves contained in this system should address written inquiries to the commander of the correctional facility.

For verification purposes, individual should provide their full name, Social Security Number (SSN), dates of confinement, any details, which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

CONTESTING RECORD PROCEDURES:

The Army's rules for accessing records and for contesting contents and appealing initial agency determinations are contained in Army Regulation 340-21; 32 CFR part 505; or may be obtained from the system manager.

RECORD SOURCE CATEGORIES:

From the individual witnesses; victims; Military Police/U.S. Army Criminal Investigation Command personnel and/or reports; informants; various Federal, State and local investigative and law enforcement agencies; foreign governments; and other individual or organization that may supply pertinent information.

EXEMPTIONS CLAIMED FOR THE SYSTEM:

Parts of this system may be exempt pursuant to 5 U.S.C. 552a(j)(2) if the information is compiled and maintained by a component of the agency which performs as its principle function any activity pertaining to the enforcement of criminal laws.

An exemption rule for this system has been promulgated in accordance with requirements of 5 U.S.C. 553(b)(1), (2), and (3), (c) and (e) and published in 32 CFR part 505. For additional information contact the system manager.

[FR Doc. 2010-15637 Filed 6-25-10; 8:45 am]

BILLING CODE 5001-06-P